DEPARTMENT OF DEFENSE

Department of the Army

Programmatic Environmental Assessment for Construction and Operation of Solar Photovoltaic Renewable Energy Projects on Army Installations

AGENCY: Department of the Army, DoD.

ACTION: Notice of availability.

SUMMARY: The Department of the Army has completed a Programmatic Environmental Assessment (PEA) for construction, operation, and maintenance of solar photovoltaic (PV) renewable energy projects on Army installations and is making the PEA and a draft Finding of No Significant Impact (FNSI) available for public comment. The draft FNSI incorporates the PEA, which does not identify any significant environmental impacts from the proposed action or any of the alternatives. The draft FNSI concludes that preparation of an environmental impact statement (EIS) is not required, and therefore will not be prepared.

The PEA is programmatic and nationwide in scope. For years, the Army has analyzed and implemented solar PV projects at Army installations across the country. In the PEA, the Army leveraged this experience with the goal of streamlining the National Environmental Policy Act process for future solar PV proposals, as appropriate, in a manner consistent with Council on Environmental Quality and Department of the Army regulations.

DATES: The public comment period will end 30 days after publication of the Notice of Availability in the Federal Register by the Department of the Army.

ADDRESSES: Written comments should be sent to: U.S. Army Environmental Command, Attn: Solar PV PEA Public Comments, 2450 Connell Road (Building 2264), JBSA—Fort Sam Houston, TX 78234-7664; email: usarmy.jbsa.aec.nepa@mail.mil.

FOR FURTHER INFORMATION CONTACT: Please contact the U.S. Army Environmental Command Public Affairs Office, (210) 466-1590 or toll-free 855-846-3940, or email at usarmy.jbsa.aec.nepa@mail.mil.

SUPPLEMENTARY INFORMATION: The proposed action is to construct, operate, and maintain solar PV arrays and/or ancillary power systems on Army installations, to include U.S. Army Reserve facilities, Army National Guard sites, and joint bases managed by the Department of the Army (with all henceforth referred to only as “Army installations” or “installations”). The proposed action includes, for those solar PV projects where the existing infrastructure is insufficient, constructing (or upgrading) and maintaining the associated infrastructure required for the transmission and management of the generated electricity to the electric grid. Associated infrastructure includes but is not limited to electricity transformers, transmission and distribution lines, and sub or switching stations; as well as ancillary power control systems such as energy storage systems, micro-grid components, and back-up power generators. The proposed action may include real estate actions on Army lands where the projects could be funded and constructed by the Army, funded through a third party Power Purchase Agreement utilizing a lease of Army or Joint Base land to an independent power producer or the local regulated utility company, or funded via some other relationship with a private or public entity.

The projects being evaluated and analyzed would generally range from approximately 10 megawatt (MW) to 100 MW per site; however, the projects outside of this MW range (e.g., less than 10 MW) are inclusive in this proposed action. On average, seven acres of land are currently required to produce one MW of power. As this technology has evolved, the acreage requirement for one MW generating capacity has decreased; therefore, it is possible that future solar PV technologies may require even less acreage per MW; currently, approximately 70 acres of land would be required for a 10 MW site and 700 acres of land for a 100 MW site. PV systems on rooftops would generally expect to have capacity measured in watts or kilowatts (kW), not MW, and be of a much smaller size and scope.

After construction, equipment monitoring, routine maintenance (including vegetation control, snow removal, solar module washing, and periodic module/other equipment replacement), and as-needed repairs by the system operator would follow to ensure proper operation of the solar PV system.

The alternatives considered and analyzed in the PEA are the No Action alternative and three action alternatives, which are to implement the proposed action on greenfield sites (Alternative 1), on previously developed sites (Alternative 2), and on or over structures or impervious surfaces, such as buildings and carports (Alternative 3). Installations may choose any or all of the action alternative approaches to solar PV.

The goal of this programmatic approach is to streamline the NEPA process for the construction, operation, and maintenance of solar PV renewable energy projects by providing installations with sufficient detail about environmental impacts on resources to enable them to tier off of the PEA, as appropriate. Tiering from this PEA would avoid or reduce the costs of repetitive, similar analyses, and allow the Army to focus resources on only those site-specific environmental issues that merit a deeper analysis. Installations tiering from the PEA would use the checklist contained in the PEA to identify site-specific NEPA requirements. Where further analysis would be required to meet site-specific NEPA requirements, the PEA may still be used for tiering, allowing the installation to focus on those resources which require site-specific analysis.

Members of the public, federally-recognized Native American Tribes, Alaska Native Tribes, Native Hawaiian Organizations, and federal, state, and local agencies are invited to submit written comments on the PEA and/or draft FNSI.

The PEA and draft FNSI may be accessed at: http://www.aec.army.mil/Services/Support/NEPA/Documents.aspx.

Brenda S. Bowen,
Army Federal Register Liaison Officer.

[FR Doc. 2016-28842 Filed 12-1-16; 8:45 am]

BILLING CODE 5001-03-P